DEPARTMENT OF EDUCATION

[Docket No. ED-2019-ICCD-0128]

Agency Information Collection Activities; Comment Request; State Education Agency, Local Educational Agency, and School Data Collection and Reporting under ESEA, Title I, Part A

AGENCY: Department of Education (ED), Office of Elementary and Secondary Education (OESE).

ACTION: Notice.

SUMMARY: In accordance with the Paperwork Reduction Act of 1995, ED is proposing a revision of an existing information collection.

DATES: Interested persons are invited to submit comments on or before December 16, 2019.

ADDRESSES: To access and review all the documents related to the information collection listed in this notice, please use http://www.regulations.gov by searching the Docket ID number ED-2019-ICCD-0128. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9086, Washington, DC 20202-0023.

FOR FURTHER INFORMATION CONTACT: For specific questions related to collection activities, please contact Evan Skloot, 202-453-6515.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: State Education Agency, Local Educational Agency, and School Data Collection and Reporting under ESEA, Title I, Part A.

OMB Control Number: 1810-0581.

Type of Review: A revision of an existing information collection.

Respondents/Affected Public: State, Local, and Tribal Governments.

Total Estimated Number of Annual Responses: 17,022.

Total Estimated Number of Annual Burden Hours: 293,152.

Abstract: Title I, Part A (Title I) of the Elementary and Secondary Education Act of 1965 (ESEA), as amended by the Every Student Succeeds Act of 2015 (ESSA), contains several provisions that require State education agencies (SEAs), local educational agencies (LEAs), and schools to collect and disseminate information. The Paperwork Reduction Act (PRA) covers these activities. The previous authorization of the ESEA contained information collection requirements which are currently approved by OMB under control number 1810-0581.

Congress approved a joint resolution on March 9, 2017 disapproving the U.S. Department of Education's (Department's) regulations related to State plans, statewide accountability systems, and data reporting. The burden changes reflected in this revision renewal data collection are a result of this joint resolution and reflect only the requirements of the statute. The requirement to produce a State and LEA report card remains unchanged under this revision renewal and most of the work to produce the report cards is the same. There are some requirements that were in the regulations that are not required due to the joint resolution. As a result, the burden estimate is slightly lower under this revision renewal.

SEAs, LEAs, and schools collect and disseminate the information to carry out the reporting requirements of Title I of the ESEA. The information is used to facilitate compliance with statutory requirements and to provide information to school communities (including parents), LEAs, SEAs and the Department regarding activities required under Title I of the ESEA.

Dated: October 10, 2019.
Kate Mullan,
PRA Coordinator, Information Collection Clearance Program, Information Management Branch, Office of the Chief Information Officer.

[FR Doc. 2019-22514 Filed 10-15-19; 8:45 am]

BILLING CODE 4000-01-P